DEPARTMENT OF LABOR

Employment and Training Administration

[TA-W-61,881]

Southern Weaving Company, Tarboro Plant 5, Tarboro, NC; Notice of Negative Determination Regarding Application for Reconsideration

By letter dated October 1, 2007, a company official requested administrative reconsideration regarding the Department's Negative Determination Regarding Eligibility to Apply for Worker Adjustment Assistance, applicable to the workers of the subject firm. The denial notice was published in the Federal Register on October 3, 2007 (72 FR 56385).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The initial investigation resulted in a negative determination signed on September 21, 2007 was based on the finding that imports of tie down and tubular webbing did not contribute importantly to worker separations at the subject plant and no shift of production to a foreign source occurred. The “contributed importantly” test is generally demonstrated through a survey of the workers' firm's declining customers. The survey revealed negligible declining imports of tie down and tubular webbing as reported by major declining customers during the relevant period. The subject firm did not import tie down and tubular webbing.

The petitioner states that the affected workers lost their jobs as a direct result of a loss of customers and alleges that the customers “are getting their orders from some other country.”

The Department conducted an additional investigation to determine whether imports of tie down and tubular webbing indeed impacted production at the subject firm and consequently caused workers separations. Upon further review of the previous investigation the Department contacted the major declining customer of the subject firm, which initially reported negligible increases in imports of tie down and tubular webbing. This customer reported that the imports they are buying are not like or directly competitive with the tie down and tubular webbing previously purchased from the subject firm. The customer imports final products, which contain tie down and tubular webbing as components.

In order to establish import impact, the Department must consider imports that are like or directly competitive with those produced at the subject firm. The Department conducted a survey of the subject firm's major declining customers regarding their purchases of tie down and tubular webbing during 2005, 2006 and January through June 2007 over the corresponding 2006 period. The survey revealed that the declining customers did not import tie down and tubular webbing during the relevant period.

Conclusion

After review of the application and investigative findings, I conclude that there has been no error or misinterpretation of the law or of the facts which would justify reconsideration of the Department of Labor's prior decision. Accordingly, the application is denied.

Signed in Washington, DC this 31st day of October 2007.
Elliott S. Kushner,
Certifying Officer, Division of Trade Adjustment Assistance.

[FR Doc. E7-22059 Filed 11-9-07; 8:45 am]

BILLING CODE 4510-FN-P